DEPARTMENT OF DEFENSE

Office of the Secretary

Final Environmental Impact Statement for the O'Brien Road Access Modernization, Fort Meade, Maryland

AGENCY: Department of Defense (DoD).

ACTION: Notice of availability.

SUMMARY: The DoD announces the availability of the Final Environmental Impact Statement (EIS) as part of the environmental planning process for the O'Brien Road Access Modernization (ORAM) project at Fort George G. Meade, Maryland (hereafter referred to as Fort Meade). The DoD proposes to implement the ORAM project, which would entail renovation and upgrade of inspection facilities, upgrade of access facilities, and corresponding roadway improvements for Mapes, O'Brien, Perimeter, and Venona Roads on Fort Meade.

DATES: Written comments must be received by March 11, 2024.

ADDRESSES: Written comments can be submitted by mail to “ORAM EIS” c/o HDR, 2650 Park Tower Drive, Suite 400, Vienna, VA 22180 or by email to ORAM@hdrinc.com.

Copies of the Final EIS are available on the project website at https://www.nab.usace.army.mil/oram and at the Medal of Honor Memorial Library, 4418 Llewellyn Avenue, Fort Meade, MD 20755; Glen Burnie Regional Library, 1010 Eastway, Glen Burnie, MD 21060; Odenton Regional Library, 1325 Annapolis Road, Odenton, MD 21113; and Severn Community Library, 2624 Annapolis Road, Severn, Maryland 21144. You may also call (301) 688-2970 or send an email to ORAM@hdrinc.com to request a copy of the Final EIS.

FOR FURTHER INFORMATION CONTACT: Mr. Jeffrey Williams at 301-688-2970, or email jdwill2@nsa.gov.

SUPPLEMENTARY INFORMATION: The purpose of the proposed project is to construct facilities and infrastructure to allow for increased capacity for required security processing of traffic and deliveries entering Fort Meade and the National Security Agency (NSA) campus. The need for the proposed project is to address inefficiencies with current infrastructure and capacity issues.

The Final EIS is available for a 30-day period following publication of the Notice of Availability.

Dated: February 5, 2024.
Aaron T. Siegel,
Alternate OSD Federal Register Liaison Officer, Department of Defense.

[FR Doc. 2024-02612 Filed 2-7-24; 8:45 am]

BILLING CODE 6001-FR-P